DEPARTMENT OF COMMERCE

International Trade Administration

7th Annual U.S. Industry Program at the International Atomic Energy Agency (IAEA) General Conference

AGENCY: International Trade Administration (ITA), Department of Commerce, (DOC).

ACTION: Notice.

SUMMARY: The United States Department of Commerce's International Trade Administration is amending the FR Notice published at 79 FR 30547, May 28, 2014, regarding the 7th Annual U.S. Industry Program at the International Atomic Energy Agency (IAEA) General Conference scheduled for September 21-24, 2014, to revise the dates of the application deadline from June 14, 2014 to the new deadline of June 27, 2014.

SUPPLEMENTARY INFORMATION: Amendment to Revise the Application Deadline.

Background

Recruitment for this Mission began in May 2014. Due to summer holidays, it has been determined that additional time is needed to allow for recruitment and marketing in support of the mission. Applications will now be accepted through June 27, 2014 (and after that date if space remains and scheduling constraints permit). Interested U.S. civil nuclear energy firms, trade organizations, universities, and research institutions that have not already submitted an application are encouraged to do so.

Amendment

For the reasons stated above, the Timeframe for Recruitment and Participation section of the Notice of the 7th Annual U.S. Industry Program at the International Atomic Energy Agency (IAEA) General Conference has been amended. The U.S. Department of Commerce will review applications and make selection decisions on a rolling basis beginning June 27, 2014. We will inform all applicants of selection decisions no later than July 18, 2014. Applications received after the June 27, 2014 deadline will be considered only if space and scheduling constraints permit.

FOR FURTHER INFORMATION CONTACT:

Jonathan Chesebro, Office of Energy & Environmental Industries, Industry & Analysis, Washington DC, Phone: 202-482-1297; Email: jonathan.chesebro@trade.gov.

Marta Haustein, Embassy of the United States of America, U.S. Commercial Service Vienna, Austria, Phone: +43(0) 1 313 39 2205; Email: marta.haustein@trade.gov.

Shannon Fraser, International Business Development, U.S. Commercial Service—Silicon Valley, Phone: 408-535-2757, ext. 106; Email: shannon.fraser@trade.gov.

Dated: May 30, 2014.
Catherine Vial,
Team Leader, Environmental and Renewable Energy Industries, Office of Energy and Environmental Industries.

[FR Doc. 2014-13264 Filed 6-5-14; 8:45 am]

BILLING CODE 3510-DR-P